NUCLEAR REGULATORY COMMISSION

[Docket No. 50-271]

Amergen Vermont, LLC, Vermont Yankee Nuclear Power Station; Notice of Consideration of Approval of Transfer of Facility Operating License and Opportunity for a Hearing

The U.S. Nuclear Regulatory Commission (the Commission) is considering the issuance of an order under 10 CFR 50.80 approving the indirect transfer of Facility Operating License No. DPR-28 for the Vermont Yankee Nuclear Power Station (Vermont Yankee), currently held by Vermont Yankee Nuclear Power Corporation, as the owner and licensed operator.

A direct transfer of this license from Vermont Yankee Nuclear Power Corporation to AmerGen Vermont, LLC (AmerGen Vermont) was approved by the Nuclear Regulatory Commission by an order dated July 7, 2000. The conforming amendment to the license to reflect this transfer will be issued upon completion of the purchase of the facility by AmerGen Vermont. Upon completion of this transfer, AmerGen Vermont will hold the license as the owner and licensed operator of Vermont Yankee.

AmerGen Energy Company, LLC (AmerGen) and its wholly owned subsidiary AmerGen Vermont submitted an application to the Commission dated February 28, 2000, which was supplemented by submittals dated May 12, June 1, and June 28, 2000, for a subsequent indirect transfer of the license following the acquisition of Vermont Yankee by AmerGen Vermont. The indirect transfer proposed in the February 28, 2000, application as supplemented would result from the acquisition of PECO Energy Company's (PECO's) existing interest in AmerGen by a new generation company. This company, Exelon Generation Company, LLC, is to be a subsidiary of Exelon Ventures Company, which will be a wholly owned subsidiary of a new holding company, Exelon Corporation. Exelon Corporation will be formed from a planned merger between PECO and Unicom Corporation (Unicom). The facility is located in Vernon, Vermont.

According to the application filed by AmerGen and AmerGen Vermont, AmerGen is a limited liability company formed to acquire and operate nuclear power plants in the United States. AmerGen Vermont is a limited liability company formed by AmerGen to acquire and operate Vermont Yankee. British Energy, Inc., and PECO each own 50 percent of AmerGen. Following completion of the merger between Unicom and PECO, Exelon Generation Company will acquire PECO's existing 50-percent ownership interest in AmerGen. AmerGen Vermont, as a wholly owned subsidiary of AmerGen, as owned by Exelon Generation Company and British Energy, Inc., will continue to be responsible, after the completion of the transfer of Vermont Yankee to AmerGen Vermont, for the operation, maintenance, and eventual decommissioning of Vermont Yankee. No direct transfer of the license is being proposed. Also, no physical changes to the facility or operational changes are being proposed in the application.

Pursuant to 10 CFR 50.80, no license, or any right thereunder, shall be transferred, directly or indirectly, through transfer of control of the license, unless the Commission shall give its consent in writing. The Commission will approve an application for the indirect transfer of a license if the Commission determines that the underlying transaction effectuating the indirect transfer will not affect the qualifications of the holder of the license, and that the transfer is otherwise consistent with applicable provisions of law, regulations, and orders issued by the Commission pursuant thereto.

The filing of requests for hearing and petitions for leave to intervene, and written comments with regard to the license transfer application, are discussed below.

By August 8, 2000, any person whose interest may be affected by the Commission's action on the application may request a hearing and, if not, the applicant may petition for leave to intervene in a hearing proceeding on the Commission's action. Requests for a hearing and petitions for leave to intervene should be filed in accordance with the Commission's rules of practice set forth in subpart M, “Public Notification, Availability of Documents and Records, Hearing Requests and Procedures for Hearings on License Transfer Applications,” of 10 CFR part 2. In particular, such requests and petitions must comply with the requirements set forth in 10 CFR 2.1306, and should address the considerations contained in 10 CFR 2.1308(a). Untimely requests and petitions may be denied, as provided in 10 CFR 2.1308(b), unless good cause for failure to file on time is established. In addition, an untimely request or petition should address the factors that the Commission will also consider, in reviewing untimely requests or petitions, set forth in 10 CFR 2.1308(b)(1)-(2).

Requests for a hearing and petitions for leave to intervene should be served upon: Kevin P. Gallen, Esq., Morgan, Lewis & Bockius LLP, 1800 M Street NW, Washington, DC 20036-5869; the General Counsel, U.S. Nuclear Regulatory Commission, Washington, DC 20555 (e-mail address for filings regarding license transfer cases only: OGCLT@NRC.gov); and the Secretary of the Commission, U.S. Nuclear Regulatory Commission, Washington, DC 20555-0001, Attention: Rulemakings and Adjudications Staff, in accordance with 10 CFR 2.1313.

The Commission will issue a notice or order granting or denying a hearing request or intervention petition, designating the issues for any hearing that will be held and designating the Presiding Officer. A notice granting a hearing will be published in the Federal Register and served on the parties to the hearing.

As an alternative to requests for hearing and petitions to intervene, by August 18, 2000, persons may submit written comments regarding the license transfer application, as provided for in 10 CFR 2.1305. The Commission will consider and, if appropriate, respond to these comments, but such comments will not otherwise constitute part of the decisional record. Comments should be submitted to the Secretary, U.S. Nuclear Regulatory Commission, Washington, DC 20555-0001, Attention: Rulemakings and Adjudications Staff, and should cite the publication date and page number of this Federal Register notice.

For further details with respect to this action, see the application dated February 28, 2000, and supplemental letters dated May 12, June 1, and June 28, 2000, which are available for public inspection at the Commission's Public Document Room, the Gelman Building, 2120 L Street NW, Washington, DC, and accessible electronically through the ADAMS Public Electronic Reading Room link at the NRC Web site (http\\www.nrc.gov).

Dated at Rockville, Maryland this 13th day of July 2000.
For the Nuclear Regulatory Commission.
Richard P. Croteau,
Project Manager, Section 2, Project Directorate I, Division of Licensing Project Management, Office of Nuclear Reactor Regulation.

[FR Doc. 00-18238 Filed 7-18-00; 8:45 am]

BILLING CODE 7590-01-P